INTERNATIONAL TRADE COMMISSION

[Investigation Nos. 701-TA-612-613 and 731-TA-1429-1430 (Review)]

Polyester Textured Yarn From China and India; Determinations

On the basis of the record ¹ developed in the subject five-year reviews, the United States International Trade Commission (“Commission”) determines, pursuant to the Tariff Act of 1930 (“the Act”), that revocation of the antidumping and countervailing duty orders on polyester textured yarn from China and India would be likely to lead to continuation or recurrence of material injury to an industry in the United States within a reasonably foreseeable time.

¹ The record is defined in § 207.2(f) of the Commission's Rules of Practice and Procedure (19 CFR 207.2(f)).

Background

The Commission instituted these reviews on December 2, 2024 (89 FR 95230) and determined on March 7, 2025, that it would conduct expedited reviews (90 FR 16700, April 21, 2025).

The Commission made these determinations pursuant to section 751(c) of the Act (19 U.S.C. 1675(c)). It completed and filed its determinations in these reviews on June 20, 2025. The views of the Commission are contained in USITC Publication 5640 (June 2025), entitled Polyester Textured Yarn from China and India: Investigation Nos. 701-TA-612-613 and 731-TA-1429-1430 (Review).

By order of the Commission.
Issued: June 20, 2025.
Lisa Barton,
Secretary to the Commission.

[FR Doc. 2025-11570 Filed 6-23-25; 8:45 am]

BILLING CODE 7020-02-P